DEPARTMENT OF COMMERCE

National Telecommunications and Information Administration

Commerce Spectrum Management Advisory Committee Meeting

AGENCY: National Telecommunications and Information Administration, U.S. Department of Commerce.

ACTION: Notice of open meeting.

SUMMARY: This notice announces a public meeting of the Commerce Spectrum Management Advisory Committee (Committee). The Committee provides advice to the Assistant Secretary for Communications and Information and the National Telecommunications and Information Administration (NTIA) on spectrum management policy matters.

DATES: The meeting will be held on December 2, 2015, from 1 p.m. to 4 p.m., Eastern Standard Time.

ADDRESSES: The meeting will be held at Wilkinson Barker and Knauer, LLP, 1800 M Street NW., Suite 800N, Washington, DC 20036. Public comments may be mailed to Commerce Spectrum Management Advisory Committee, National Telecommunications and Information Administration, 1401 Constitution Avenue NW., Room 4099, Washington, DC 20230 or emailed to BWashington@ntia.doc.gov.

FOR FURTHER INFORMATION CONTACT: Bruce M. Washington, Designated Federal Officer, at (202) 482-6415 or BWashington@ntia.doc.gov; and/or visit NTIA's Web site at http://www.ntia.doc.gov/category/csmac.

SUPPLEMENTARY INFORMATION: Background: The Committee provides advice to the Assistant Secretary for Communications and Information on needed reforms to domestic spectrum policies and management in order to: License radio frequencies in a way that maximizes their public benefits; keep wireless networks as open to innovation as possible; and make wireless services available to all Americans. See Charter at http://www.ntia.doc.gov/files/ntia/publications/csmac_2015_charter_renewal_2-26-15.pdf.

This Committee is subject to the Federal Advisory Committee Act (FACA), 5 U.S.C. App. 2, and is consistent with the National Telecommunications and Information Administration Act, 47 U.S.C. 904(b). The Committee functions solely as an advisory body in compliance with the FACA. For more information about the Committee visit: http://www.ntia.doc.gov/category/csmac.

Matters To Be Considered: The Committee provides advice to the Assistant Secretary to assist in developing and maintaining spectrum management policies that enable the United States to maintain or strengthen its global leadership role in the introduction of communications technology and services and innovation. This helps in expanding the economy, adding jobs, and increasing international trade, while at the same time providing for the expansion of existing technologies and supporting the country's homeland security, national defense, and other critical government needs. The Committee will hear reports of the following Subcommittees:

1. Federal Access to Non-Federal Bands (Bi-directional Sharing)

2. Government and Industry Collaboration

3. Measurement and Sensing in 5 GHz

4. Spectrum Access System (SAS)/Spectrum Database International Extension

5. Fifth Generation (5G) Wireless

NTIA will post a detailed agenda on its Web site, http://www.ntia.doc.gov/category/csmac, prior to the meeting. To the extent that the meeting time and agenda permit, any member of the public may speak to or otherwise address the Committee regarding the agenda items. See Open Meeting and Public Participation Policy, available at http://www.ntia.doc.gov/category/csmac.

Time and Date: The meeting will be held on December 2, 2015, from 1 p.m. to 4 p.m., Eastern Standard Time. The times and the agenda topics are subject to change. The meeting will be available via two-way audio link and may be webcast. Please refer to NTIA's Web site, http://www.ntia.doc.gov/category/csmac, for the most up-to-date meeting agenda and access information.

Place: The meeting will be held at Wilkinson Barker and Knauer, LLP, 1800 M Street NW., Suite 800N, Washington, DC 20036. Public comments may be mailed to Commerce Spectrum Management Advisory Committee, National Telecommunications and Information Administration, 1401 Constitution Avenue NW., Room 4099, Washington, DC 20230. The meeting will be open to the public and press on a first-come, first-served basis. Space is limited. The public meeting is physically accessible to people with disabilities. Individuals requiring accommodations, such as sign language interpretation or other ancillary aids, are asked to notify Mr. Washington at (202) 482-6415 or BWashington@ntia.doc.gov at least ten (10) business days before the meeting.

Status: Interested parties are invited to attend and to submit written comments to the Committee at any time before or after the meeting. Parties wishing to submit written comments for consideration by the Committee in advance of a meeting must send them to NTIA's Washington, DC office at the above-listed address and comments must be received five (5) business days before the scheduled meeting date, to provide sufficient time for review. Comments received after this date will be distributed to the Committee, but may not be reviewed prior to the meeting. It would be helpful if paper submissions also include a compact disc (CD) in Word or PDF format. CDs should be labeled with the name and organizational affiliation of the filer. Alternatively, comments may be submitted electronically to BWashington@ntia.doc.gov. Comments provided via electronic mail also may be submitted in one or more of the formats specified above.

Records: NTIA maintains records of all Committee proceedings. Committee records are available for public inspection at NTIA's Washington, DC office at the address above. Documents including the Committee's charter, member list, agendas, minutes, and any reports are available on NTIA's Committee Web page at http://www.ntia.doc.gov/category/csmac.

Dated: November 9, 2015.
Kathy D. Smith,
Chief Counsel, National Telecommunications and Information Administration.

[FR Doc. 2015-28878 Filed 11-12-15; 8:45 am]

BILLING CODE 3510-60-P